DEPARTMENT OF ENERGY

Federal Energy Regulatory Commission

Combined Notice of Filings #1

Take notice that the Commission received the following electric corporate filings:

Docket Numbers: EC17-194-000.

Applicants: Northern States Power Company, a Minnesota corporation.

Description: Application for Authorization Under Section 203 of the FPA to Acquire Jurisdictional Transmission Facilities of Northern States Power Company, a Minnesota corporation.

Filed Date: 9/27/17.

Accession Number: 20170927-5121.

Comments Due: 5 p.m. ET 10/18/17.

Docket Numbers: EC17-195-000.

Applicants: Radford's Run Wind Farm, LLC.

Description: Application For Authorization Under Section 203 of The Federal Power Act, Requests for Waivers of Filing Requirements, Expedited Review and Confidential Treatment of Radford's Run Wind Farm, LLC.

Filed Date: 9/28/17.

Accession Number: 20170928-5026.

Comments Due: 5 p.m. ET 10/19/17.

Take notice that the Commission received the following electric rate filings:

Docket Numbers: ER09-1256-004; ER12-2708-006.

Applicants: Potomac-Appalachian Transmission Highline, LLC, PATH West Virginia Transmission Company, PATH Allegheny Transmission Company, LLC.

Description: Response of Potomac-Appalachian Transmission Highline, LLC and its operating companies to July 27, 2017 letter requesting additional information.

Filed Date: 9/27/17.

Accession Number: 20170927-5122.

Comments Due: 5 p.m. ET 10/18/17.

Docket Numbers: ER15-1456-005; ER11-3859-013; ER16-999-005; ER11-4634-005; ER17-436-003; ER17-437-006; ER14-1699-005; ER15-1457-005.

Applicants: Beaver Falls, L.L.C., Dighton Power, LLC, Greenleaf Energy Unit 1 LLC, Hazleton Generation LLC, Marcus Hook Energy, L.P., Marcus Hook 50, L.P., Milford Power, LLC, Syracuse, L.L.C.

Description: Notice of Change in Status of Beaver Falls, L.L.C., et al.

Filed Date: 9/27/17.

Accession Number: 20170927-5126.

Comments Due: 5 p.m. ET 10/18/17.

Docket Numbers: ER17-1639-003.

Applicants: AEP Generation Resources Inc.

Description: Compliance filing: AEP GR Deficency Letter Response to be effective 5/9/2017.

Filed Date: 9/27/17.

Accession Number: 20170927-5108.

Comments Due: 5 p.m. ET 10/18/17.

Docket Numbers: ER17-2553-000.

Applicants: Wabash Valley Power Association, Inc.

Description: § 205(d) Rate Filing: Amendments to Rate Schedules—Jay REMC to be effective 11/27/2017.

Filed Date: 9/27/17.

Accession Number: 20170927-5102.

Comments Due: 5 p.m. ET 10/18/17.

Take notice that the Commission received the following public utility holding company filings:

Docket Numbers: PH17-4-003.

Applicants: Starwood Energy Group Global, L.L.C.

Description: Starwood Energy Group Global, L.L.C. submits FERC 65-B Change in Status of Waiver Notification.

Filed Date: 9/27/17.

Accession Number: 20170927-5118.

Comments Due: 5 p.m. ET 10/18/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 28, 2017.
Nathaniel J. Davis, Sr.,
Deputy Secretary.

[FR Doc. 2017-21297 Filed 10-3-17; 8:45 am]

BILLING CODE 6717-01-P